DEPARTMENT OF THE INTERIOR

Bureau of Land Management

[14X L1109AF LLUTG02100 L14300000 EU0000; UTU-89282]

Notice of Realty Action: Proposed Non-Competitive (Direct) Sale of Public Land in Carbon County, UT

AGENCY: Bureau of Land Management, Interior.

ACTION: Notice of realty action.

SUMMARY: The Bureau of Land Management (BLM) is proposing a non-competitive (direct) sale of 280 acres of public land in Carbon County, Utah, to Hunt Consolidated, Inc., under the provisions of the Federal Land Policy and Management Act of 1976 (FLPMA), as amended, at not less than the fair market value of $196,000.

DATES: Comments regarding the proposed sale must be received by the BLM on or before October 3, 2014. The land will not be offered for sale until at least 60 days after publication of this notice.

ADDRESSES: You may submit comments concerning this notice to the BLM Price Field Office, Attn: Patricia A. Clabaugh, 125 South 600 West, Price, UT 84501.

FOR FURTHER INFORMATION CONTACT: Connie Leschin, Realty Specialist, 435-636-3610, at the above address or email to cleschin@blm.gov. Persons who use a telecommunication device for the deaf (TDD) may call the Federal Information Relay Service (FIRS) at 1-800-877-8339 to leave a message or question for the above individual. The FIRS is available 24 hours a day, 7 days a week. Replies are provided during normal business hours.

SUPPLEMENTARY INFORMATION: The following described public lands in Carbon County, Utah, are proposed for direct sale, subject to the applicable provisions of Sections 203 and 209 of FLPMA and 43 CFR parts 2711 and 2720:

Salt Lake Meridian, Utah

T. 14 S., R. 15 E.,

Sec. 8, SE1/4SE1/4;

Sec. 28, E1/2NE1/4;

Sec. 33, SE1/4SW1/4, N1/2SE1/4 and SW1/4SE1/4.

The areas described aggregate 280 acres.

These parcels are small isolated tracts that are difficult to manage as they are surrounded entirely by land owned by Hunt Consolidated, Inc. The proposed sale is in conformance with the BLM Price Field Office Resource Management Plan, approved in October 2008, which has designated the parcels for disposal. The BLM will offer the lands to Hunt Consolidated, Inc., on a non-competitive basis pursuant to 43 CFR 2711.3-3(a)(4) because the ownership pattern adjoining the parcels indicates that a direct sale would be appropriate. The lands are not suitable for management by other Federal agencies. A mineral report concluded that the parcels have known mineral values; therefore, the mineral estate will be reserved to the United States pursuant to 43 CFR 2720.0-6. Conveyance of the identified public land would be subject to valid existing rights of record and the following terms, conditions, and reservations:

1. A right-of-way thereon for ditches and canals constructed by authority of the United States, Act of August 30, 1890 (43 U.S.C. 945).

2. A reservation of all minerals to the United States, and the right to prospect for, mine, and remove the minerals under applicable law and any regulations that the Secretary of the Interior may prescribe, including all necessary access and exit rights.

On February 5, 2013, the lands were segregated from the public land laws, including the mining laws, except for the sale provisions of FLPMA (78 FR 8188). Detailed information concerning the proposed land sale including the appraisal report, environmental assessment, and mineral report are available for review at the BLM Price Field Office.

Public comments regarding the proposed sale may be submitted in writing to the Field Manager (see the ADDRESSES Section) on or before October 3, 2014. Email will also be accepted and should be sent to: BLM_UT_PR_Comments@blm.gov with “Public Land Sale” inserted in the subject line. Any comments regarding the proposed sale will be reviewed by the BLM State Director or other authorized official of the Department of the Interior, who may sustain, vacate, or modify this realty action in whole or in part. In the absence of timely filed objections, this realty action will become the final determination of the Department of the Interior not less than 60 days after August 19, 2014.

Before including your address, telephone number, email address, or other personal identifying information in your comment, you should be aware that your entire comment—including your personal identifying information—may be made publicly available at any time. While you can ask in your comment to withhold your personal identifying information from public review, we cannot guarantee that we will be able to do so.

Authority: 43 CFR parts 2710, 2711 and 2720.

Jenna Whitlock,
Associate State Director.

[FR Doc. 2014-19610 Filed 8-18-14; 8:45 am]

BILLING CODE 4310-DQ-P